DEPARTMENT OF TRANSPORTATION

Federal Aviation Administration

RTCA PMC Program Management Committee Meeting

AGENCY: Federal Aviation Administration (FAA), U.S. Department of Transportation (DOT).

ACTION: RTCA PMC Program Management Committee meeting.

SUMMARY: The FAA is issuing this notice to advise the public of a meeting RTCA PMC Program Management Committee. PMC is a subcommittee to RTCA.

DATES: The meeting will be held July 13, 2017, 08:30 a.m.-10:30 a.m.

ADDRESSES: The meeting will be held at: RTCA Headquarters, 1150 18th Street NW., Suite 430, Washington, DC 20036.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the RTCA PMC Program Management Committee. The agenda will include the following:

Thursday, July 13, 2017 8:30 a.m.-10:30 a.m.

1. Welcome and Introductions

2. Review/Approve

A. Meeting Summary May 31, 2017

B. Administrative SC TOR Revisions

3. Publication Consideration/Approval

A. Final Draft, Revision to DO-253C—Minimum Operational Performance Standards for GPS Local Area Augmentation System Airborne Equipment, prepared by SC-159 (Navigation Equipment Using the Global Navigation Satellite System (GNSS))

B. Revision to DO-246D—GNSS-Based Precision Approach Local Area Augmentation System (LAAS) Signal-in-Space Interface Control Document (ICD), prepared by SC-159 (Navigation Equipment Using the Global Navigation Satellite System (GNSS))

C. New Document—Minimum Operational Performance Standards for GLONASS for L1 Only, prepared by SC-159 (Navigation Equipment Using the Global Navigation Satellite System (GNSS))

D. New Document—Guidance for the Usage of Data Linked Forecast and Current Wind Information in Air Traffic Management (ATM) Operations, prepared by SC-206 (Aeronautical Information and Metrological Data Link Services)

E. Revision to DO-311—Minimum Operational Performance Standards for Rechargeable Lithium Battery Systems, prepared by SC-225 (Rechargeable Lithium Battery and Battery Systems)

F. Revision to DO-227—Minimum Operational Performance Standards for Lithium Batteries, prepared by SC-235 (Non-Rechargeable Lithium Batteries)

4. Integration and Coordination Committee (ICC)

5. Past Action Item Review

6. Discussion

7. Other Business

8. Schedule for Committee Deliverables and Next Meeting Date

9. New Action Item Summary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on June 22, 2017.
Mohannad Dawoud,
Management & Program Analyst, Partnership Contracts Branch, ANG-A17, NextGen, Procurement Services Division, Federal Aviation Administration.

[FR Doc. 2017-13447 Filed 6-26-17; 8:45 am]

BILLING CODE 4910-13-P